DEPARTMENT OF EDUCATION

Notice of Proposed Waivers for the Rehabilitation Training—Rehabilitation Continuing Education Program (RCEP)

AGENCY: Office of Special Education and Rehabilitative Services, Department of Education.

SUMMARY: The Secretary proposes to waive the requirements in 34 CFR 75.250 and 75.261(a) and (c)(2) of the Education Department General Administrative Regulations (EDGAR), respectively, that generally prohibit project periods exceeding five years and project period extensions involving the obligation of additional Federal funds. These waivers would enable seven current RCEP grantees to provide continuing education to employees of vocational rehabilitation (VR) agencies and their partners and to continue to receive some additional Federal funding from July 1, 2008 until September 30, 2008.

DATES: We must receive your comments on or before May 27, 2008.

ADDRESSES: Address all comments about these proposed waivers to Christine Marschall, U.S. Department of Education, 400 Maryland Ave, SW., room 5053, Potomac Center Plaza, Washington, DC 20202-2800. If you prefer to send your comments through the Internet, use the following address: Christine.Marschall@ed.gov.

You must include the term “RCEP Waivers” in the subject line of your electronic message.

FOR FURTHER INFORMATION CONTACT: Christine Marschall. Telephone: (202) 245-7429 or via Internet: Christine.Marschall@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Invitation To Comment

We invite you to submit comments regarding this notice of proposed waivers.

During and after the comment period, you may inspect all public comments about this notice of proposed waivers in room 5053, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Supplementary Information

The RCEPs provide continuing education to employees of State VR agencies and their partners, as well as other rehabilitation services agencies. The Rehabilitation Services Administration (RSA) in the Department's Office of Special Education and Rehabilitative Services is in the process of redesigning the RCEPs to create and support 10 regional Technical Assistance and Continuing Education (TACE) centers. (For more information on the proposed TACE centers, see the notice of proposed priority that the Department published in the Federal Register on January 29, 2008 (73 FR 5179).) The Department intends to make awards for the TACE centers so that grant activities can begin by October 1, 2008.

The waivers proposed in this notice are intended to ensure that services provided by the current RCEP grantees are provided to the extent possible through October 1, 2008, the anticipated date that the TACE centers will commence their project activities. The project periods for the following current RCEP grantees end on June 30, 2008: (1) State University of New York at Buffalo, (2) George Washington University, (3) the University of Arkansas, (4) the University of Missouri-Columbia, (5) the University of Northern Colorado, (6) San Diego State University, and (7) Western Washington University. Because it would be contrary to the public interest to have a lapse in continuing education activities before grants for RSA's new TACE projects are awarded and implemented, the Secretary proposes to provide some additional funding to the seven RCEP grantees referenced in this paragraph to allow them to continue operating until September 30, 2008. In order to do so, the Secretary proposes to waive the requirements in 34 CFR 75.250 and 75.261(a) and (c)(2), which generally prohibit project periods exceeding five years and extensions of project periods that involve the obligation of additional Federal funds.

Note: RSA does not plan to continue funding any other RCEPs with the exception of three RCEP grantees currently in the fourth year of their grant (Assumption College, the University of Tennessee, and Georgia State University) with budget periods ending on June 30, 2008. For these three RCEP grantees, the Secretary plans to extend their current budget period and provide some additional funding to support continuing education activities until September 30, 2008.

We will announce the final waivers, if any, in a notice in the Federal Register. We will determine the final waivers after considering responses to this notice and other information available to the Department.

Proposed Waivers—Rehabilitation Continuing Education Program

The Secretary proposes, as necessary, to waive the requirements in 34 CFR 75.250 and 75.261(a) and (c)(2), which prohibit project periods exceeding five years and extensions of project periods that involve the obligation of additional Federal funds, for current RCEP grantees in the fifth year of their grants.

Under these waivers, the seven RCEP grantees that have grants ending on June 30, 2008 would be eligible for additional funding, as available, to allow them to continue their activities through September 30, 2008.

Regulatory Flexibility Act Certification

The Secretary certifies that the proposed waivers would not have a significant economic impact on a substantial number of small entities.

Paperwork Reduction Act of 1995

This extension and notice of waivers would not contain any information collection requirements.

Intergovernmental Review: This program is subject to Executive Order 12372 and the regulations in 34 CFR part 79. One of the objectives of the Executive Order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.264A, Rehabilitation Continuing Education Program)

Program Authority: 29 U.S.C. 772.

Dated: May 7, 2008.
William R. Knudsen,
Deputy Assistant Secretary for Special Education and Rehabilitative Services.

[FR Doc. E8-10518 Filed 5-9-08; 8:45 am]

BILLING CODE 4000-01-P